COMMITTEE FOR PURCHASE FROM PEOPLE WHO ARE BLIND OR SEVERELY DISABLED

Procurement List: Proposed Additions and Deletion

ACTION: Proposed Additions to and Deletion from the Procurement List.

SUMMARY: The Committee is proposing to add to the Procurement List a product and services to be furnished by nonprofit agencies employing persons who are blind or have other severe disabilities, and to delete a service previously furnished by such agencies.

Comments Must Be Received On or Before: March 23, 2008.

ADDRESSES: Committee for Purchase From People Who Are Blind or Severely Disabled, Jefferson Plaza 2, Suite 10800, 1421 Jefferson Davis Highway, Arlington, Virginia 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to the Procurement List for production by the nonprofit agencies listed:

Product

Tray, Mess Compartmented

NSN: 7350-01-012-8787.

Coverage: B-List for the broad Government requirement as specified by the General Services Administration.

NPA: The Light House for the Blind in New Orleans, New Orleans, LA.

Contracting Activity: General Services Administration, Southwest Supply Center, Fort Worth, TX.

Services

Service Type/Location(s): Administrative & Mailroom Support Services, U.S. Department of Housing and Urban Development (5 Locations):

Fort Worth Regional Office, 801 Cherry Street, Room 2500, Fort Worth, TX.

Lubbock Office, 1205 Texas Avenue, Suite 511, Lubbock, TX.

Memphis Field Office, 200 Jefferson Avenue, Suite 300, Memphis, TN.

San Antonio Field Office, One Alameda Center, 106 S. St. Mary's Street, Suite 405, San Antonio, TX.

Shreveport Field Office, 401 Edwards Street, Suite 1510, Shreveport, LA.

NPA: Nobis Enterprises, Inc., Marietta, GA.

Contracting Activity: U.S. Department of Housing and Urban Development, Office of Field Administrative Resources (OFAR), Atlanta, GA.

Service Type/Location: Base Supply Center, Naval Station Newport, Newport, RI

NPA: Central Association for the Blind and Visually Impaired, Utica, NY. Contracting Activity: Fleet and Industrial Supply Center (FISC), Norfolk Contracting Department, Groton, CT.

Service Type/Location: Custodial Services, U.S. Army Corps of Engineers, Lake Michigan Area Office, 307 South Harbor Street, Grand Haven, MI.

NPA: Goodwill Industries of West Michigan, Inc., Muskegon, MI.

Contracting Activity: U.S. Army Corps of Engineers—Detroit, Detroit, MI.

Deletion

Regulatory Flexibility Act Certification

I certify that the following action will not have a significant impact on a substantial number of small entities. The major factors considered for this certification were:

1. If approved, the action should not result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

Comments on this certification are invited. Commenters should identify the statement(s) underlying the certification on which they are providing additional information.

End of Certification

The following service is proposed for deletion from the Procurement List:

Service

Service Type/Location: Janitorial/Custodial, Fort Bliss Exchange, Main Store—Building 1735, Fort Bliss, TX.

NPA: Goodwill Industries of El Paso, El Paso, TX.

Contracting Activity: Departments of Army and Air Force—Dallas, Dallas, TX.

Kimberly M. Zeich,
Director, Program Operations.

[FR Doc. E8-3328 Filed 2-21-08; 8:45 am]

BILLING CODE 6353-01-P